DEPARTMENT OF TRANSPORTATION

Federal Aviation Administration

RTCA NextGen Advisory Committee (NAC)

AGENCY: Federal Aviation Administration (FAA), DOT.

ACTION: Notice of RTCA NextGen Advisory Committee (NAC)

SUMMARY: The FAA published a Notice in the Federal Register on September 3, 2010 (75-FR-54221), concerning a Notice to advise the public of a meeting of RTCA NextGen Advisory Committee. The Agenda in that notice has been revised.

DATES: The meeting will be held September 23, 2010, from 8:30 a.m. to 11:30 a.m.

ADDRESSES: The meeting will be held at Bessie Coleman Room, Federal Aviation Administration, 800 Independence Avenue, SW., Washington, DC 20591. Metro: L'Enfant Plaza Station (Use 7th & Maryland Exit).

FOR FURTHER INFORMATION CONTACT: RTCA Secretariat, 1828 L Street, NW., Suite 805, Washington, DC 20036; telephone (202) 833-9339; fax (202) 833-9434; Web site http://www.rtca.org.

SUPPLEMENTARY INFORMATION: The Agenda published in the Federal Register Notice on September 3, 2010, (75-FR-54221) is revised to read as follows:

• Opening Plenary (Welcome and Introductions).

• Review Terms of Reference.

• Overview of NextGen—Setting the stage for Committee actions.

• RTCA Task Force 5 Recommendations.

• FAA Actions and Activities.

• Close-out ATMAC Action Items.

• Discussion of Initial Task.

• Discussion of Working Subcommittee.

• Set Meeting Dates for 2011.

• Closing Plenary (Other Business, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 10, 2010.
Robert L. Bostiga,
RTCA Advisory Committee.

[FR Doc. 2010-23071 Filed 9-15-10; 8:45 am]

BILLING CODE 4910-13-P